DEPARTMENT OF HOMELAND SECURITY

Federal Emergency Management Agency

[Docket ID FEMA-2022-0002; Internal Agency Docket No. FEMA-B-2232]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Arapahoe | City of Aurora (21-08-0396P) | The Honorable Mike Coffman, Mayor, City of Aurora, 15151 East Alameda Parkway, Aurora, CO 80012 | Public Works Department, 15151 East Alameda Parkway, Aurora, CO 80012 | https://msc.fema.gov/portal/advanceSearch | Jul. 29, 2022 | 080002
Arapahoe | City of Greenwood Village (21-08-0598P) | The Honorable George Lantz, Mayor, City of Greenwood Village, 6060 South Quebec Street, Greenwood Village, CO 80111 | City Hall, 6060 South Quebec Street, Greenwood Village, CO 80111 | https://msc.fema.gov/portal/advanceSearch | Jul. 15, 2022 | 080195
Florida:
Manatee | Unincorporated areas of Manatee County (21-04-3451P) | The Honorable Kevin Van Ostenbridge, Chairman, Manatee County Board of Commissioners, P.O. Box 1000, Bradenton, FL 34206 | Manatee County Building and Development Services Department, 1112 Manatee Avenue West, Bradenton, FL 34205 | https://msc.fema.gov/portal/advanceSearch | Aug. 2, 2022 | 120153
Monroe | City of Marathon (22-04-2591P) | The Honorable John Bartus, Mayor, City of Marathon, 9805 Overseas Highway, Marathon, FL 33050 | Planning Department, 9805 Overseas Highway, Marathon, FL 33050 | https://msc.fema.gov/portal/advanceSearch | Aug. 8, 2022 | 120681
Monroe | Unincorporated areas of Monroe County (22-04-1700P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Aug. 4, 2022 | 125129
Palm Beach | Unincorporated areas of Palm Beach County (21-04-3850P) | Ms. Verdenia C. Baker, Palm Beach County Administrator, 301 North Olive Avenue, West Palm Beach, FL 33401 | Palm Beach County Building Division, 2300 North Jog Road, West Palm Beach, FL 33411 | https://msc.fema.gov/portal/advanceSearch | Jul. 13, 2022 | 120192
Sumter | City of Wildwood (21-04-1742P) | The Honorable Ed Wolf, Mayor, City of Wildwood, 100 North Main Street, Wildwood, FL 34785 | City Hall, 100 North Main Street, Wildwood, FL 34785 | https://msc.fema.gov/portal/advanceSearch | Jul. 25, 2022 | 120299
Sumter | Unincorporated areas of Sumter County (21-04-1742P) | Mr. Bradley Arnold, Sumter County Administrator, 7375 Powell Road, Wildwood, FL 34785 | The Villages—Sumter County Service Center, 7375 Powell Road, Wildwood, FL 34785 | https://msc.fema.gov/portal/advanceSearch | Jul. 25, 2022 | 120296
Kentucky:
Hardin | City of Elizabethtown (21-04-4539P) | The Honorable Jeffrey H. Gregory, Mayor, City of Elizabethtown, 200 West Dixie Avenue, Elizabethtown, KY 42701 | Stormwater Department, 200 West Dixie Avenue, Elizabethtown, KY 42701 | https://msc.fema.gov/portal/advanceSearch | Aug. 10, 2022 | 210095
Hardin | Unincorporated areas of Hardin County (21-04-4539P) | Mr. Harry L. Berry, Hardin County Executive, 150 North Provident Way, Suite 314 Elizabethtown, KY 42701 | Hardin County Engineering and GIS Department, 150 North Provident Way, Suite 223, Elizabethtown, KY 42701 | https://msc.fema.gov/portal/advanceSearch | Aug. 10, 2022 | 210094
Mississippi: Harrison | City of Pass Christian (22-04-1912P) | The Honorable Jimmy Rafferty, Mayor, City of Pass Christian, 200 West Scenic Drive, Pass Christian, MS 39571 | City Hall, 200 West Scenic Drive, Pass Christian, MS 39571 | https://msc.fema.gov/portal/advanceSearch | Aug. 8, 2022 | 285261
North Carolina: Cumberland | City of Fayetteville (21-04-3782P) | The Honorable Mitch Colvin, Mayor, City of Fayetteville, 433 Hay Street, Fayetteville, NC 28301 | Zoning Department, 433 Hay Street, Fayetteville, NC 28301 | https://msc.fema.gov/portal/advanceSearch | Jul. 27, 2022 | 370077
Oklahoma:
Oklahoma | City of Oklahoma City (21-06-2787P) | The Honorable David Holt, Mayor, City of Oklahoma City, 200 North Walker Avenue, 3rd Floor, Oklahoma City, OK 73102 | Public Works Department, 420 West Main Street, Suite 700, Oklahoma City, OK 73102 | https://msc.fema.gov/portal/advanceSearch | Jul. 21, 2022 | 405378
Oklahoma | Unincorporated areas of Oklahoma County (21-06-2787P) | The Honorable Brian Maughan, Chairman, Oklahoma County Board of Commissioners, 320 Robert S. Kerr Avenue, Suite 201, Oklahoma City, OK 73102 | Oklahoma County Engineering and Planning Department, 320 Robert S. Kerr Avenue, Suite 201, Oklahoma City, OK 73102 | https://msc.fema.gov/portal/advanceSearch | Jul. 21, 2022 | 400466
Texas:
Bastrop | City of Elgin (21-06-2966P) | The Honorable Ron Ramirez, Mayor, City of Elgin, P.O. Box 591, Elgin, TX 78621 | City Hall, 310 North Main Street, Elgin, TX 78621 | https://msc.fema.gov/portal/advanceSearch | Jul. 22, 2022 | 480023
Bastrop | Unincorporated areas of Bastrop County (21-06-2966P) | The Honorable Paul Pape, Bastrop County Judge, 804 Pecan Street, Bastrop, TX 78602 | Bastrop County Development Services Department, 211 South Jackson Street, Bastrop, TX 78602 | https://msc.fema.gov/portal/advanceSearch | Jul. 22, 2022 | 481193
Bexar | City of San Antonio (21-06-2757P) | The Honorable Ron Nirenberg, Mayor, City of San Antonio, P.O. Box 839966, San Antonio, TX 78283 | Transportation and Capital Improvements Department, Stormwater Division, 1901 South Alamo Street, San Antonio, TX 78204 | https://msc.fema.gov/portal/advanceSearch | Jul. 11, 2022 | 480045
Brazos | City of Bryan (21-06-2790P) | The Honorable Andrew Nelson, Mayor, City of Bryan, P.O. Box 1000, Bryan, TX 77805 | City Hall, 300 South Texas Avenue, Bryan, TX 77803 | https://msc.fema.gov/portal/advanceSearch | Aug. 10, 2022 | 480082
Dallas | City of Sachse (21-06-2964P) | The Honorable Mike Felix, Mayor, City of Sachse, 3815 Sachse Road, Building B, Sachse, TX 75048 | Engineering Department, 3815 Sachse Road, Building B, Sachse, TX 75048 | https://msc.fema.gov/portal/advanceSearch | Aug. 5, 2022 | 480186
Harris | Unincorporated areas of Harris County (21-06-1709P) | The Honorable Lina Hidalgo, Harris County Judge, 1001 Preston Street, Suite 911, Houston, TX 77002 | Harris County Engineering Department, Permit Division, 10555 Northwest Freeway, Suite 120, Houston, TX 77002 | https://msc.fema.gov/portal/advanceSearch | Jul. 18, 2022 | 480287
Harris | Unincorporated areas of Harris County (21-06-3108P) | The Honorable Lina Hidalgo, Harris County Judge, 1001 Preston Street, Suite 911, Houston, TX 77002 | Harris County Engineering Department, Permit Division, 10555 Northwest Freeway, Suite 120, Houston, TX 77002 | https://msc.fema.gov/portal/advanceSearch | Jul. 18, 2022 | 480287
McLennan | City of Bellmead (22-06-0249P) | The Honorable Gary Moore, Mayor, City of Bellmead, 3015 Bellmead Drive, Bellmead, TX 76705 | City Hall, 3015 Bellmead Drive, Bellmead, TX 76705 | https://msc.fema.gov/portal/advanceSearch | Aug. 3, 2022 | 480457
McLennan | City of Waco (22-06-0249P) | The Honorable Dillon Meek, Mayor, City of Waco, P.O. Box 2570, Waco, TX 76702 | Public Works Department, 401 Franklin Avenue, Waco, TX 76701 | https://msc.fema.gov/portal/advanceSearch | Aug. 3, 2022 | 480461
McLennan | Unincorporated areas of McLennan County (22-06-0249P) | The Honorable Scott M. Felton, McLennan County Judge, P.O. Box 1728, Waco, TX 76703 | McLennan County Engineering and Mapping Department, 215 North 5th Street, Suite 130, Waco, TX 76701 | https://msc.fema.gov/portal/advanceSearch | Aug. 3, 2022 | 480456
Medina | City of Castroville (21-06-1723P) | The Honorable Darrin Schroeder, Mayor, City of Castroville, 1209 Fiorella Street, Castroville, TX 78009 | Public Works Department, 703 Paris Street, Castroville, TX 78009 | https://msc.fema.gov/portal/advanceSearch | Aug. 5, 2022 | 480932
Medina | Unincorporated areas of Medina County (21-06-1723P) | The Honorable Chris Schuchart, Medina County Judge, 1300 Avenue M, Room 250, Hondo, TX 78861 | Medina County Environmental Health Department, 709 Avenue Y, Hondo, TX 78861 | https://msc.fema.gov/portal/advanceSearch | Aug. 5, 2022 | 480472
Montgomery | Unincorporated areas of Montgomery County (21-06-1709P) | The Honorable Mark J. Keough, Montgomery County Judge, 501 North Thompson Street, Suite 401, Conroe, TX 77301 | Montgomery County Engineering Department, 501 North Thompson Street, Suite 103, Conroe, TX 77301 | https://msc.fema.gov/portal/advanceSearch | Jul. 18, 2022 | 480483
Tarrant | City of Grapevine (21-06-2959P) | The Honorable William D. Tate, Mayor, City of Grapevine, P.O. Box 95104, Grapevine, TX 76099 | City Hall, 200 South Main Street, Grapevine, TX 76051 | https://msc.fema.gov/portal/advanceSearch | Aug. 8, 2022 | 480598
Tarrant | Unincorporated areas of Tarrant County (21-06-2812P) | The Honorable B. Glen Whitley, Tarrant County Judge, 100 East Weatherford Street, Suite 501, Fort Worth, TX 76196 | Tarrant County Administration Building, 100 East Weatherford Street, Fort Worth, TX 76196 | https://msc.fema.gov/portal/advanceSearch | Aug. 8, 2022 | 480582
Webb | City of Laredo (21-06-1751P) | The Honorable Pete Saenz, Mayor, City of Laredo, 1110 Houston Street, 3rd Floor, Laredo, TX 78040 | Planning and Zoning Department, 1413 Houston Street, Laredo, TX 78040 | https://msc.fema.gov/portal/advanceSearch | Jul. 7, 2022 | 480651
Wise | Unincorporated areas of Wise County (21-06-2812P) | The Honorable J.D. Clark, Wise County Judge, 101 North Trinity Street, Decatur, TX 76234 | Wise County Public Works Department, 2901 South FM 51, Building 200, Decatur, TX 76234 | https://msc.fema.gov/portal/advanceSearch | Aug. 8, 2022 | 481051
Utah:
Wasatch | Town of Wallsburg (21-08-0901P) | The Honorable Celeni Richins, Mayor, Town of Wallsburg, 70 West Main Canyon Road, Wallsburg, UT 84082 | Town Hall, 70 West Main Canyon Road, Wallsburg, UT 84082 | https://msc.fema.gov/portal/advanceSearch | Jul. 14, 2022 | 490168
Wasatch | Unincorporated areas of Wasatch County (21-08-0901P) | Mr. Dustin Grabau, Wasatch County Manager, 25 North Main Street, Heber City, UT 84032 | Wasatch County Planning Department, 55 South 500 Street East, Heber City, UT 84032 | https://msc.fema.gov/portal/advanceSearch | Jul. 14, 2022 | 490164
Virginia: Prince William | City of Manassas Park (21-03-1049P) | The Honorable Jeanette Rishell, Mayor, City of Manassas Park, 1 Park Center Court, Manassas Park, VA 20111 | City Hall, 1 Park Center Court, Manassas Park, VA 20111 | https://msc.fema.gov/portal/advanceSearch | Aug. 5, 2022 | 510123

[FR Doc. 2022-10003 Filed 5-9-22; 8:45 am]

BILLING CODE 9110-12-P